DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (the Program), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place NW., Washington, DC 20005, (202) 357-6400. For information on HRSA's role in the Program, contact the Director, National Vaccine Injury Compensation Program, 5600 Fishers Lane, Room 08N146B, Rockville, MD 20857; (301) 443-6593, or visit our Web site at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding.

The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on March 1, 2016, through March 31, 2016. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading FOR FURTHER INFORMATION CONTACT), with a copy to HRSA addressed to Director, Division of Injury Compensation Programs, Healthcare Systems Bureau, 5600 Fishers Lane, 08N146B, Rockville, MD 20857. The Court's caption (Petitioner's Name v. Secretary of Health and Human Services) and the docket number assigned to the petition should be used as the caption for the written submission. Chapter 35 of title 44, United States Code, related to paperwork reduction, does not apply to information required for purposes of carrying out the Program.

Dated: April 14, 2016.
James Macrae,
Acting Administrator.

List of Petitions Filed

1. Nina Kleinberg, Holyoke, Massachusetts, Court of Federal Claims No: 16-0287V

2. Mary Agresti, Henderson, Nevada, Court of Federal Claims No: 16-0290V

3. Gail M. Schrank, Sussex, Wisconsin, Court of Federal Claims No: 16-0292V

4. Yolanda Cartagena, Wareham, Massachusetts, Court of Federal Claims No: 16-0293V

5. Charles A. Hall, Ph.D., Greensboro, North Carolina, Court of Federal Claims No: 16-0294V

6. Angel Villa, Dallas, Texas, Court of Federal Claims No: 16-0295V

7. Robert W. Montague, Chattanooga, Tennessee, Court of Federal Claims No: 16-0298V

8. Joshua Howard, Waupun, Wisconsin, Court of Federal Claims No: 16-0299V

9. Charles Moore, Southside, Alabama, Court of Federal Claims No: 16-0300V

10. Judith Marjorie Tipton, Asheville, North Carolina, Court of Federal Claims No: 16-0303V

11. Maya Sandoval, Oakland, California, Court of Federal Claims No: 16-0304V

12. Ronald Kass, Stockton, California, Court of Federal Claims No: 16-0305V

13. Heidi Domke, Baltimore, Maryland, Court of Federal Claims No: 16-0307V

14. Alan L. Jones, Bradenton, Florida, Court of Federal Claims No: 16-0308V

15. Patricia Zuckerman, Toms River, New Jersey, Court of Federal Claims No: 16-0311V

16. Kristin Denbow, St. Louis, Missouri, Court of Federal Claims No: 16-0312V

17. Paula Absolon, Dallas, Texas, Court of Federal Claims No: 16-0313V

18. Don Knobbe, St. Louis, Missouri, Court of Federal Claims No: 16-0315V

19. Jessica R. Martin on behalf of K.M., Thomasville, North Carolina, Court of Federal Claims No: 16-0318V

20. Jewel Dailey, Canastota, New York, Court of Federal Claims No: 16-0319V

21. Christine Miners, Sarasota, Florida, Court of Federal Claims No: 16-0320V

22. Phillip Herrera, Waupun, Wisconsin, Court of Federal Claims No: 16-0321V

23. Diane Chandler, Boston, Massachusetts, Court of Federal Claims No: 16-0322V

24. Christine Reynolds, Boston, Massachusetts, Court of Federal Claims No: 16-0323V

25. Mark Clement and Shannon Clement on behalf of J.C., Boston, Massachusetts, Court of Federal Claims No: 16-0324V

26. Robert Raiche, Boston, Massachusetts, Court of Federal Claims No: 16-0325V

27. Eric Reynolds, Flint, Michigan, Court of Federal Claims No: 16-0330V

28. Jerry Santoni, Phoenix, Arizona, Court of Federal Claims No: 16-0331V

29. Dorothy Sicard on behalf of S.S., Phoenix, Arizona, Court of Federal Claims No: 16-0332V

30. Shelly M. Pinckard, Pensacola, Florida, Court of Federal Claims No: 16-0333V

31. Sarah Fields, Edwards AFB, California, Court of Federal Claims No: 16-0335V

32. Deborah Gilbert, Dresher, Pennsylvania, Court of Federal Claims No: 16-0337V

33. Davika Lochan, Dresher, Pennsylvania, Court of Federal Claims No: 16-0338V

34. Jonathan Catrow, Edgewater, Maryland, Court of Federal Claims No: 16-0339V

35. Hilda Almanzar, Hainesport, New Jersey, Court of Federal Claims No: 16-0340V

36. Paul Hillen, Dresher, Pennsylvania, Court of Federal Claims No: 16-0341V

37. Stephen Schmidt, Dresher, Pennsylvania, Court of Federal Claims No: 16-0342V

38. Heather Gillotti, Dresher, Pennsylvania, Court of Federal Claims No: 16-0343V

39. Candace L. Holmes, Mocksville, North Carolina, Court of Federal Claims No: 16-0349V

40. John GowanWellesley, Massachusetts, Court of Federal Claims No: 16-0350V

41. Katherine Irvin on behalf of Cuba Woods, Culver City, California, Court of Federal Claims No: 16-0351V

42. Dufhane Hyde, Sr. on behalf of Dufhane Hyde, Jr., Deceased, Bloomfield, Connecticut, Court of Federal Claims No: 16-0354V

43. James Hooper, Dresher, Pennsylvania, Court of Federal Claims No: 16-0355V

44. Russell Burden, Boston, Massachusetts, Court of Federal Claims No: 16-0359V

45. John Dakota Jackson, Spokane, Washington, Court of Federal Claims No: 16-0361V

46. Martha Worlein, Wichita, Kansas, Court of Federal Claims No: 16-0364V

47. Stephen Knowles, McLean, Virginia, Court of Federal Claims No: 16-0365V

48. Shelly Norris, Sarasota, Florida, Court of Federal Claims No: 16-0366V

49. Sophia Herrera, Dallas, Texas, Court of Federal Claims No: 16-0372V

50. Cori Marshall, Boise, Idaho, Court of Federal Claims No: 16-0373V

51. Larry Gordon, Limon, Colorado, Court of Federal Claims No: 16-0374V

52. Debra Baker, Baraboo, Wisconsin, Court of Federal Claims No: 16-0375V

53. Carolyn Wagner, Beverly Hills, California, Court of Federal Claims No: 16-0377V

54. Roger Schurg, Frostburg, Maryland, Court of Federal Claims No: 16-0378V

55. Lisa Applegate, Beverly Hills, California, Court of Federal Claims No: 16-0379V

56. Marlene Cimons, Dresher, Pennsylvania, Court of Federal Claims No: 16-0380V

57. Rebecca Kemak, Phoenix, Arizona, Court of Federal Claims No: 16-0381V

58. Maria Del Pilar Varela-Avila, Dallas, Texas, Court of Federal Claims No: 16-0382V

59. Deborah M. Williamson, Pittsburgh, Pennsylvania, Court of Federal Claims No: 16-0384V

60. Thomas Tutt, Albuquerque, New Mexico, Court of Federal Claims No: 16-0385V

61. Scott Valeen, Washington, District of Columbia, Court of Federal Claims No: 16-0390V

62. Paulette Terhune on behalf of A. T. T., Coral Springs, Florida, Court of Federal Claims No: 16-0393V

63. Jennifer Wolf-Lecy, Dallas, Texas, Court of Federal Claims No: 16-0406V

64. Sonia Bell, Chicago, Illinois, Court of Federal Claims No: 16-0407V

65. Seth Fruge and Christina Majesty on behalf of Reed Fruge, New Orleans, Louisiana, Court of Federal Claims No: 16-0410V

66. Christopher Diane Lewis, Dallas, Texas, Court of Federal Claims No: 16-0411V

67. Debra Bostwick-Kenkel, Beverly Hills, California, Court of Federal Claims No: 16-0412V

[FR Doc. 2016-09172 Filed 4-19-16; 8:45 am]

BILLING CODE 4165-15-P